NATIONAL TRANSPORTATION SAFETY BOARD

Air Show and Air Races; Public Hearing

TIME AND DATE: 9 a.m., Tuesday, January 10, 2012.

PLACE: NTSB Conference Center, 429 L'Enfant Plaza SW., Washington, DC 20594.

The objectives of this hearing is to examine current regulations and oversight practices for air shows and air races, describe procedures used for planning aviation events, and describe procedures used in conducting aviation events.

News Media Contact: Telephone: (202) 314-6100.

The press and public may enter the NTSB Conference Center one hour prior to the meeting for set up and seating.

Individuals requesting specific accommodations should contact Rochelle Hall at (202) 314-6305 by Friday, January 6, 2012.

The public may view the meeting via a live or archived webcast by accessing a link under “News & Events” on the NTSB home page at http://www.ntsb.gov.

FOR FURTHER INFORMATION CONTACT: Terry Williams at (202) 314-6100.

Dated: January 4, 2012.
Candi R. Bing,
Federal Register Liaison Officer.

[FR Doc. 2012-204 Filed 1-9-12; 8:45 am]

BILLING CODE 7533-01-P